DEPARTMENT OF HEALTH AND HUMAN SERVICES

Administration for Children and Families

Submission for OMB Review; Placement and Transfer of Unaccompanied Alien Children Into ORR Care Provider (0970-0554)

AGENCY: Office of Refugee Resettlement; Administration for Children and Families; Department of Health and Human Services.

ACTION: Request for public comment.

SUMMARY: The Office of Refugee Resettlement (ORR) Administration for Children and Families (ACF), U.S. Department of Health and Human Services (HHS), is proposing to continue to collect information that will allow Unaccompanied Alien Children (UAC) Program to place UAC referred to ORR by Federal agencies into care provider facilities and to transfer UAC within the ORR care provider network. These information collections were originally approved under emergency approval for 6 months. This request is to continue data collection. Information collections related to other aspects of the UAC Programs, such as sponsorship and health care, are covered under OMB Numbers 0970-0278, 0970-0385, 0970-0466, 0970-0490, 0970-0498, 0970-0509, and 0970-0543.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The components of this information request include:

1. Placement Authorization (Form P-1): This instrument is used by ORR to authorize a care provider to provide care and services to UAC placed in their facility. Care providers sign the instrument to acknowledge certain responsibilities related to the care of the UAC. This form is currently approved under OMB Number 0970-0498.

2. Authorization for Medical, Dental, and Mental Health Care (Form P-2): This instrument is used by ORR to authorize a care provider to provide medical, dental, and mental health care services to UAC placed in their facility. Care providers sign the instrument to acknowledge certain responsibilities related to the care of the UAC.

3. Notice of Placement in a Restrictive Setting (Form P-4/4s): This instrument is used by care providers to document and inform UAC of the reason they have been placed in a restrictive setting. This form is currently approved under OMB Number 0970-0498 under the title Notice of Placement in Secure or Staff Secure.

4. Long Term Foster Care Placement Memo (Form P-5): This instrument is used by care providers to ensure continuity of services and tracking of records for a UAC following transfer. This form is currently approved under OMB Number 0970-0498.

5. Intakes Placement Checklist (Form P-7): This instrument is used by ORR Intakes staff to determine whether initial placement in a restrictive setting is appropriate for a UAC. This form is currently approved under OMB Number 0970-0498 under the title Further Assessment Swift Track (FAST) Placement Tool.

6. Care Provider Checklist for Transfers to Influx Care Facilities (Form P-8): This instrument is used by care providers to ensure that all criteria for transfer of a UAC to an influx care facility have been met.

7. Medical Checklist for Transfers (Form P-9A): This instrument is used by care providers to ensure that UAC are medically cleared for transfer within the ORR care provider network, excluding transfer to an influx care facility.

8. Medical Checklist for Influx Transfers (Form P-9B): This instrument is used by care providers to ensure that UAC are medically cleared for transfer to an influx care facility.

9. Transfer Request (Form P-10): This instrument is used by care provider facilities, ORR contractor staff, and ORR Federal staff to process recommendations and decisions for transfer of a UAC within the ORR care provider network. This form is currently approved under OMB Number 0970-0498 under the title Transfer Request and Tracking Form.

10. Transfer Request and Tracking Form (Form P-11): This instrument is used by care providers to track the physical transfer of the UAC and their belongings.

11. UAC Portal Capacity Report (Form P-12): This instrument is used by care providers and ORR to track availability of beds in care provider facilities. This form is currently approved under OMB Number 0970-0498.

12. Add New UAC (Form P-13): This instrument is used by Federal agencies to refer UAC to ORR custody and by ORR Intakes staff to place UAC in an ORR care provider facility.

13. Notice of Transfer to ICE Chief Counsel—Change of Address/Change of Venue (Form P-14): This instrument is used by care providers to notify DHS of the transfer of a UAC within the ORR care provider network so that DHS may file a Motion for Change of Venue and/or Change of Address with the Executive Office for Immigration Review to ensure the UAC's immigration case is transferred to the local immigration court, if applicable. This form is currently approved under OMB Number 0970-0498.

Respondents: ORR grantee and contractor staff; other Federal agencies.

Annual Burden Estimates
Instrument | Annual total number of respondents | Annual total number of responses per respondent | Average burden minutes per response | Annual total burden hours
Placement Authorization (Form P-1) | 206 | 377 | 1 | 1,294
Authorization for Medical, Dental, and Mental Health Care (Form P-2) | 206 | 377 | 1 | 1,294
Notice of Placement in a Restrictive Setting (Form P-4/4s) | 15 | 68 | 20 | 340
Long Term Foster Care Placement Memo (Form P-5) | 30 | 4 | 15 | 30
Intakes Placement Checklist (Form P-7) | 16 | 4,343 | 15 | 17,372
Care Provider Checklist for Transfers to Influx Care Facilities (Form P-8) | 206 | 11 | 15 | 567
Medical Checklist for Transfers (Form P-9A) | 206 | 29 | 5 | 498
Medical Checklist for Influx Transfers (Form P-9B) | 206 | 11 | 10 | 378
Transfer Request (Form P-10) | 206 | 39 | 45 | 6,026
Transfer Request and Tracking Form (Form P-11) | 206 | 39 | 10 | 1,339
UAC Portal Capacity Report (Form P-12) | 206 | 365 | 5 | 6,266
Add New UAC (Form P-13) | 50 | 1,390 | 15 | 17,375
Notice of Transfer to ICE Chief Counsel—Change of Address/Change of Venue (Form P-14) | 206 | 39 | 10 | 1,339
Estimated Annual Burden Total: |  |  |  | 54,117

Authority: 6 U.S.C. 279; 8 U.S.C. 1232; Flores v. Reno Settlement Agreement, No. CV85-4544-RJK (C.D. Cal. 1996)

Mary B. Jones,
ACF/OPRE Certifying Officer.

[FR Doc. 2020-27901 Filed 12-17-20; 8:45 am]

BILLING CODE 4184-45-P